DEPARTMENT OF THE INTERIOR

National Park Service

Notice of Inventory Completion: U.S. Department of Agriculture, Forest Service, Chattahoochee-Oconee National Forests, Gainesville, GA

AGENCY: National Park Service, Interior.

ACTION: Notice.

Notice is here given in accordance with the Native American Graves Protection and Repatriation Act (NAGPRA), 25 U.S.C. 3003, of the completion of an inventory of human remains and associated funerary objects in the possession of the U.S. Department of Agriculture, Forest Service, Chattahoochee-Oconee National Forests, Gainesville, GA. The human remains and associated funerary objects were removed from Greene County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the professional staff of the Chattahoochee-Oconee National Forests, University of Georgia, and Southeastern Archaeological Services, Inc., and in consultation with the Muscogee (Creek) Nation, Oklahoma, and the Poarch Band of Creek Indians of Alabama.

Sometime between 1985 and 1986, human remains representing a minimum of two individuals were removed from site 9GE1083, Greene County, GA. This site was disturbed by logging operations, and the human remains were removed by a local collector in late 1985 or early 1986. No known individuals were identified. The 131 associated funerary objects are Lamar period ceramic pottery sherds.

The site was investigated by Forest Service and contract archeologists and determined to be a boulder cache containing ceramic sherds and human skeletal remains. An area of charcoal rich soil was screened during the investigation, resulting in the recovery of a small number of ceramic sherds and bone fragments. A total of 478 pieces of human bone were recovered. No paired bones were identified that would indicate more than one individual; although differential wear on two teeth may indicate it is possible two individuals are present.

Lamar period ceramics present at the site, which are associated with the Iron Horse, Dyar and Bell phases, suggest a date of approximately A.D. 1450-1670. Following 1670, this region was abandoned by Native Americans for a period of time, and the surviving populations are thought to have eventually joined with the Creek Confederacy. Based on a review of the archeology, ethnography and history of the region, officials of the Forest Service believe the human remains are Creek in affiliation. The Creek are represented by the Alabama-Coushatta Tribe of Texas; Alabama-Quassarte Tribal Town, Oklahoma; Coushatta Tribe of Louisiana; Kialegee Tribal Town, Oklahoma; Muscogee (Creek) Nation, Oklahoma; Poarch Band of Creek Indians of Alabama; and Thlopthlocco Tribal Town, Oklahoma.

Officials of the Chattahoochee-Oconee National Forests have determined, pursuant to 25 U.S.C. 3001(9), the human remains described above represent the physical remains of two individuals of Native American ancestry. Officials of the Chattahoochee-Oconee National Forests also have determined, pursuant to 25 U.S.C. 3001(3)(A), the 131 objects described above are reasonably believed to have been placed with or near individual human remains at the time of death or later as part of the death rite or ceremony. Lastly, officials of the Chattahoochee-Oconee National Forests have determined, pursuant to 25 U.S.C. 3001(2), there is a relationship of shared group identity that can be reasonably traced between the Native American human remains and associated funerary objects and the Alabama-Coushatta Tribe of Texas; Alabama-Quassarte Tribal Town, Oklahoma; Coushatta Tribe of Louisiana; Kialegee Tribal Town, Oklahoma; Muscogee (Creek) Nation, Oklahoma; Poarch Band of Creek Indians of Alabama; and Thlopthlocco Tribal Town, Oklahoma.

Representatives of any other Indian Tribe that believes itself to be culturally affiliated with the human remains and associated funerary objects should contact James Wettstaed, Chattahoochee-Oconee National Forests, 1775 Cleveland Rd., Gainesville, GA 30501, telephone (770) 297-3026, before December 6, 2010. Repatriation of the human remains and associated funerary objects to the Alabama-Coushatta Tribe of Texas; Alabama-Quassarte Tribal Town, Oklahoma; Coushatta Tribe of Louisiana; Kialegee Tribal Town, Oklahoma; Muscogee (Creek) Nation, Oklahoma; Poarch Band of Creek Indians of Alabama; and Thlopthlocco Tribal Town, Oklahoma, may proceed after that date if no additional claimants come forward.

The Chattahoochee-Oconee National Forests are responsible for notifying the Alabama-Coushatta Tribe of Texas; Alabama-Quassarte Tribal Town, Oklahoma; Coushatta Tribe of Louisiana; Kialegee Tribal Town, Oklahoma; Muscogee (Creek) Nation, Oklahoma; Poarch Band of Creek Indians of Alabama; and Thlopthlocco Tribal Town, Oklahoma, that this notice has been published.

Dated: October 29, 2010.
Sherry Hutt,
Manager, National NAGPRA Program.

[FR Doc. 2010-27917 Filed 11-3-10; 8:45 am]

BILLING CODE 4312-50-P